INTERNATIONAL TRADE COMMISSION

[Investigation Nos. 701-TA-512 and 731-TA-1248 (Review)]

Carbon and Certain Alloy Steel Wire Rod From China

Determinations

On the basis of the record ¹ developed in the subject five-year reviews, the United States International Trade Commission (“Commission”) determines, pursuant to the Tariff Act of 1930 (“the Act”), that revocation of the antidumping and countervailing duty orders on carbon and certain alloy steel wire rod (“wire rod”) from China would be likely to lead to continuation or recurrence of material injury to an industry in the United States within a reasonably foreseeable time.

¹ The record is defined in sec. 207.2(f) of the Commission's Rules of Practice and Procedure (19 CFR 207.2(f)).

Background

The Commission instituted these reviews on December 2, 2019 (84 FR 66007) and determined on March 6, 2020 that it would conduct expedited reviews (85 FR 29483, May 15, 2020).

The Commission made these determinations pursuant to section 751(c) of the Act (19 U.S.C. 1675(c)). It completed and filed its determinations in these reviews on June 15, 2020. The views of the Commission are contained in USITC Publication 5064 (June 2020), entitled Carbon and Certain Alloy Steel Wire Rod from China: Investigation Nos. 701-TA-512 and 731-TA-1248 (Review).

By order of the Commission.
Issued: June 15, 2020.
Lisa Barton,
Secretary to the Commission.

[FR Doc. 2020-13223 Filed 6-18-20; 8:45 am]

BILLING CODE 7020-02-P